GENERAL SERVICES ADMINISTRATION

[OMB Control No. 3090-0315; Docket No. 2025-0001; Sequence No. 20]

Information Collection; Ombudsman Inquiry/Request Instrument

AGENCY: Office of Acquisition Policy, Office of the Procurement Ombudsman (OPO), General Services Administration (GSA).

ACTION: Notice and request for comments.

SUMMARY: Under the provisions of the Paperwork Reduction Act, the Regulatory Secretariat Division will be submitting to the OMB a request to review and approve a reinstatement of an information collection requirement regarding OMB Control No: 3090-0315; Ombudsman Inquiry/Request Instrument.

DATES: Submit comments on or before February 23, 2026.

ADDRESSES: Submit comments regarding this collection via http://www.regulations.gov and follow the instructions on the site. Submit comments via the Federal eRulemaking portal by searching the OMB control number. Select the link “Comment Now” that corresponds with “Information Collection 3090-0315.” Please include your name, company name (if any) and “Information Collection 3090-0315, Ombudsman Inquiry Request/Request Instrument” on your attached document.

Instructions: Please submit comments only and cite Information Collection 3090-0315; Ombudsman Inquiry/Request Instrument, in all correspondence related to this collection. Comments received generally will be posted without change to http://www.regulations.gov, including any personal and/or business confidential information provided. To confirm receipt of your comment(s), please check www.regulations.gov, approximately two-to-three days after submission to verify posting. If there are difficulties submitting comments, contact the GSA Regulatory Secretariat Division at GSARegSec@gsa.gov.

FOR FURTHER INFORMATION CONTACT: Frederick Landry, GSA Procurement Ombudsman & Industry Liaison, at telephone 202-501-4755.

SUPPLEMENTARY INFORMATION:

A. Purpose

The online intake Instrument on the GSA Ombudsman's web page receives inquiries from vendors who are currently doing business with or interested in doing business with GSA. The inquiries are collected by the GSA Ombudsman and routed to the appropriate office for resolution and/or implementation in the case of recommendations for process or program improvements. Reporting of the data collected helps highlight thematic issues that vendors encounter with GSA acquisition programs, processes, or policies, and identify areas where training is needed. The information collected also assists in identifying and analyzing patterns and trends to help improve efficiencies and lead to improvements in current practices.

B. Annual Reporting Burden

Maximum Potential Respondents: 118.

Responses per Respondent: 1.

Total Maximum Potential Annual Responses: 118.

Hours per Response: .25.

Total Burden Hours: 29.5.

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies: Requesters may obtain a copy of the information collection documents from the GSA Regulatory Secretariat Division at GSARegSec@gsa.gov. Please cite OMB Control No. 3090-0315, Ombudsman Inquiry/Request Instrument, in all correspondence.

Obtaining Copies of Proposals: Requesters may obtain a copy of the information collection documents from the GSA Regulatory Secretariat Division, by calling 202-501-4755 or emailing GSARegSec@gsa.gov. Please cite “Information Collection 3090-0315, Ombudsman Inquiry/Request Instrument”, in all correspondence.

Nicole Bynum,
Regulatory Program Specialist, General Services Administration.

[FR Doc. 2025-23718 Filed 12-22-25; 8:45 am]

BILLING CODE 6820-61-P